DEPARTMENT OF THE INTERIOR

Bureau of Land Management

[LLOR932000.L16100000. DP0000.LXSSH0930000.18X.HAG 18-0143]

Notice of Availability of the Draft Resource Management Plan/Environmental Impact Statement for the San Juan Islands National Monument, Washington

AGENCY: Bureau of Land Management, Interior.

ACTION: Notice of availability.

SUMMARY: In accordance with the National Environmental Policy Act of 1969, as amended, and the Federal Land Policy and Management Act of 1976 (FLPMA), as amended, the Bureau of Land Management (BLM) has prepared a Draft Resource Management Plan (RMP) and Draft Environmental Impact Statement (EIS) for the San Juan Islands National Monument, and, by this notice, is announcing the opening of the comment period.

DATES: To ensure that comments will be considered, the BLM must receive written comments on the Draft RMP and Draft EIS within 90 days following the date the Environmental Protection Agency publishes its Notice of Availability of the Draft RMP and Draft EIS in the Federal Register. The BLM will announce future meetings or hearings and any other public participation activities at least 15 days in advance through public notices, media releases, and/or mailings.

ADDRESSES: You may submit comments related to the San Juan Islands National Monument Draft RMP and Draft EIS by any of the following methods:

• Website: https://go.usa.gov/xRphc.

• Email: blm_or_sanjuanislandsnm@blm.gov.

• Fax: 509-536-1275.

• Mail: San Juan Islands National Monument Comments, Lopez Island BLM Office, PO Box 3, Lopez, WA 98261.

Copies of the San Juan Islands National Monument Draft RMP and Draft EIS are available at the BLM Lopez Island Office (37 Washburn Place, Lopez Island, WA 98261), the BLM Spokane District Office (1103 N Fancher Rd, Spokane Valley, WA 99212), and the BLM Oregon/Washington State Office (1220 SW 3rd Avenue, Portland, OR 97204). The document is also available on the following website: https://go.usa.gov/xRphc.

FOR FURTHER INFORMATION CONTACT: Lauren Pidot, Planner, 503-808-6297; Lopez Island BLM Office, PO Box 3, Lopez, WA 98261; lpidot@blm.gov. Persons who use a telecommunications device for the deaf (TDD) may call the Federal Relay Service (FRS) at 1-800-877-8339 to contact the above individual during normal business hours. FRS is available 24 hours a day, 7 days a week, to leave a message or a question with the above individual. You will receive a reply during normal business hours.

SUPPLEMENTARY INFORMATION: The BLM has prepared the San Juan Islands National Monument Draft RMP/EIS to evaluate potential management strategies for the San Juan Islands National Monument. Presidential Proclamation 8947 designated the monument on March 25, 2013. The lands included in the monument are not now, and have never been, covered by an RMP. The BLM currently administers these lands using a custodial management approach focused on meeting legal mandates.

The decision area for this planning process comprises the approximately 1,021 acres of public land that compose the monument. The decision area does not include private lands or local, State, or non-BLM-administered Federal public lands, with the exception of approximately 179 acres of land currently withdrawn to the U.S. Coast Guard. The U.S. Coast Guard is in the process of relinquishing these acres. The BLM anticipates that acres relinquished by the U.S. Coast Guard will come under BLM administration prior to the publication of the record of decision for this planning process. In the event that the relinquishment process is not complete prior to the publication of the record of decision, the approved RMP will only go into effect for those 179 acres once they are under BLM administration.

The monument includes headlands, islands, and rocks scattered across the San Juan Islands. As a whole, the San Juan Islands encompass private lands and an array of Federal, State, and local public lands. Non-BLM public lands include the San Juan Island National Historical Park, the San Juan Islands National Wildlife Refuge (a portion of which is designated as the San Juan Wilderness), and a variety of State and county parks.

The BLM prepared the Draft RMP/EIS with input from 13 cooperating agencies, 12 consulting tribes, the Monument Advisory Committee, and the public. The formal public scoping process began on March 2, 2015, when the Federal Register published the Notice of Intent to prepare the RMP/EIS (80 FR 11220). During the scoping period, the BLM held five open house meetings attended by more than 90 members of the public. The BLM used scoping comments to help identify planning issues that led to the formulation of alternatives and framed the scope of analysis in the Draft RMP/EIS. In the winter and spring of 2016, the BLM solicited additional public comments on recreation management in the monument. During this time, the BLM held four workshops at which members of the public used large-scale maps of monument locations to provide information on recreational uses the public would like to see facilitated, limited, or prohibited. The BLM used these comments to develop recreation management area frameworks and alternatives for an implementation-level travel and transportation plan.

Presidential Proclamation 8947 required that the BLM “establish an advisory committee under the Federal Advisory Committee Act (5 U.S.C. App.) to provide information and advice regarding the development [of an RMP].” The Monument Advisory Committee is composed of twelve members representing a variety of interests. The Secretary of the Interior appoints committee members for two-year terms. The BLM met with the San Juan Islands National Monument Advisory Committee 11 times during the development of the Draft RMP/EIS.

Major issues considered in the Draft RMP/EIS include the protection and restoration of the ecological and cultural resources identified in Presidential Proclamation 8947, as well as the management of recreation, transportation, visual resources, and wilderness characteristics. The document describes the direct, indirect, and cumulative environmental impacts of a range of alternatives to address these issues.

The Draft RMP/EIS evaluates four action alternatives (Alternatives A, B, C, and D) along with one sub-alternative and the No Action Alternative. The BLM identified Alternative B as the preferred alternative. The BLM is required by regulation (43 CFR 1610) to identify a preferred alternative in the Draft RMP/EIS. It is simply the BLM's starting point for gaining public feedback to use in developing the Proposed RMP. The preferred alternative does not represent the final agency direction. In developing a Proposed RMP/Final EIS, the BLM will consider making modifications to the preferred alternative in response to public comments; advice from consulting tribes, cooperating agencies, and the Monument Advisory Committee; and BLM priorities. The Proposed RMP may be a modification of the design of Alternative B, a modification of the design of a different alternative analyzed in the Draft RMP/EIS, a new alternative developed from within the spectrum of alternatives analyzed in the Draft RMP/EIS, or an alternative analyzed in the Draft RMP/EIS as written.

Under the No Action Alternative, the BLM would continue to manage the monument using a custodial approach with no RMP. There would continue to be no plan-level objectives, direction, or allocations, except for the limited decisions made in the 1990 decision record creating the Iceberg Point and Point Colville Areas of Critical Environmental Concern (described below). Custodial management of the monument would continue to focus on meeting legal and policy mandates and preventing unnecessary and undue degradation. The BLM would make decisions about taking management actions on a case-by-case basis after completing the appropriate level of National Environmental Policy Act analysis and ensuring that actions are consistent with Proclamation 8947 and the FLPMA.

Alternative A would undertake a generally passive approach to vegetation management and would prohibit recreation while facilitating scientific, educational, cultural, and spiritual uses of the monument. Under both alternatives B and C, the BLM would pursue ambitious vegetation restoration objectives. Under Alternative B, recreational opportunities would include hiking, hunting, designated site and dispersed camping, and opportunities for pursuing solitude and quiet, which would be provided by expanding the existing trail network, requiring permits to access 167 acres of the monument, and providing dispersed camping by permit. Under Alternative C, recreational opportunities would include hiking, equestrian use, and designated site camping; portions of the monument would be closed to the discharge of firearms except for half of the firearm-based hunting season. Sub-Alternative C is identical to Alternative C, except the BLM would not allow the use of chemical treatments and would close the monument to the discharge of firearms. Under Alternative D, the BLM would maintain the current extent and condition of plant communities; recreational opportunities would include hunting and increased camping and hiking, biking, and equestrian use on an expanded trail network. The BLM is undertaking concurrent implementation-level travel and transportation planning.

There has been no recent history of uses such as grazing, logging, or mining within the monument. The proclamation designating the monument withdrew it from entry, location, selection, sale, leasing, or other disposition under public land and mining laws other than by exchange that furthers the protective purposes of the proclamation. Except for emergencies, Federal law enforcement use, or authorized administrative purposes, the proclamation also restricts motorized vehicle use to designated roads and mechanized vehicle use (e.g., bicycle use) to designated roads and trails.

Pursuant to 43 CFR 1610.7-2(b), this notice announces a concurrent public comment period on the areas of critical environmental concern (ACEC). The 1990 Iceberg Point and Point Colville Areas of Critical Environmental Concern Decision Record designated the BLM-administered lands at Iceberg Point and Point Colville as ACECs. These ACECs were later extended to Watmough Bay and Chadwick Hill after the BLM's acquisition of these areas and now apply to approximately 500 acres of land included in the monument. The 1990 decision record and the 1988 draft planning analysis for these ACECs generally discuss protecting the areas' “natural values” but do not identify specific relevant and important values. These decisions prohibit fires, trail construction, overnight camping, fuel woodcutting and commercial timber sales, certain types of rights-of-way, and livestock grazing. They also require members of the public to obtain permits for any collection of vegetation and for organized groups of 10 or more.

The BLM technical specialists on the planning team considered whether the monument encompasses values that meet the relevance and importance criteria described in the BLM's ACEC Manual. They determined that the whole of the monument contains historic and cultural, fish and wildlife, and scenic values that meet the relevance and importance criteria for an ACEC. The planning team also determined that the alternatives considered in the Draft RMP, which meet the purpose and need of protecting the objects for which the monument was designated, would protect these relevant and important values. Since the values do not require special management to protect them from the potential effects of actions permitted by the alternatives, the action alternatives do not include ACECs.

The public is encouraged to comment on any and all portions of the document. The BLM asks that those submitting comments make them as specific as possible with reference to chapters, page numbers, and line numbers in the Draft RMP/EIS. Following the public comment period, the BLM will prepare the Proposed RMP and Final EIS. The BLM will respond to substantive comments by making appropriate revisions to the document or by explaining why a comment did not warrant a change. Comments that contain only opinions or preferences will not receive a formal response; however, they will be considered and included as part of the BLM's decision-making process.

Please note that public comments and information submitted, including names, street addresses, and email addresses of persons who submit comments, will be available for public review and disclosure at the BLM Lopez Island Office (37 Washburn Place, Lopez Island, WA 98261) during regular business hours (8 a.m. to 4 p.m.), Monday through Friday, except holidays.

Before including your address, phone number, email address, or other personally identifiable information in your comment, you should be aware that your entire comment—including your personally identifiable information—may be made publicly available at any time. While you can ask the BLM in your comment to withhold your personally identifiable information from public review, we cannot guarantee that we will be able to do so.

Authority: 40 CFR 1506.6, 40 CFR 1506.10, 43 CFR 1610.2.

Jamie E. Connell,
State Director, Oregon/Washington, Bureau of Land Management.

[FR Doc. 2018-21629 Filed 10-4-18; 8:45 am]

BILLING CODE 4310-33-P